DEPARTMENT OF JUSTICE

Antitrust Division

Notice Pursuant to the National Cooperative Research and Production Act of 1933—Open SystemC Initiative (“OSCI”)

Notice is hereby given that, on January 12, 2004, pursuant to section 6(a) of the National Cooperative Research and Production Act of 1933, 15 U.S.C. 4301 et seq. (“the Act”), Open SystemC Initiative (“OSCI”) has filed written notifications simultaneously with the Attorney General and the Federal Trade Commission disclosing changes in its membership status. The notifications were filed for the purpose of extending the Act's provisions limiting the recovery of antitrust plaintiffs to actual damages under specified circumstances. Specifically, Prosilog SA, Cergy-Prefecture, France; Panasonic, Secaucus, NJ; and Summit Design, Inc., Burlington, MA have been added as parties to this venture. Also, Future Design Automation, Tokyo, Japan has been dropped as a party to this venture.

No other changes have been made in either the membership or planned activity of the group research project. Membership in this group research project remains open, and OSCI intends to file additional written notification disclosing all changes in membership.

On October 9, 2001, OSCI filed its original notification pursuant to section 6(a) of the Act. The Department of Justice published a notice in the Federal Register pursuant to section 6(b) of the Act on January 3, 2002 (67 FR 350).

The last notification was filed with the Department on April 22, 2003. A notice was published in the Federal Register pursuant to section 6(b) of the Act on May 16, 2003 (68 FR 26649).

Dorothy B. Fountain,
Deputy Director of Operations, Antitrust Division.

[FR Doc. 04-3065 Filed 2-11-04; 8:45 am]

BILLING CODE 4410-11-M